POSTAL SERVICE

Board of Governors; Sunshine Act Meeting

Board Votes To Close November 26, 2012 Meeting

By telephone vote on November 26, 2012, members of the Board of Governors of the United States Postal Service met and voted unanimously to close to public observation its meeting held in Washington, DC, via teleconference. The Board determined that no earlier public notice was possible.

Matters Considered

1. Strategic Issues.

2. Pricing.

General Counsel Certification

The General Counsel of the United States Postal Service has certified that the meeting was properly closed under the Government in the Sunshine Act.

Contact Person for More Information

Requests for information about the meeting should be addressed to the Secretary of the Board, Julie S. Moore, at (202) 268-4800.

Julie S. Moore,
Secretary.

[FR Doc. 2012-29433 Filed 11-30-12; 4:15 pm]

BILLING CODE 7710-12-P